DEPARTMENT OF ENERGY

Federal Energy Regulatory Commission

[Docket No. IC18-7-000]

Commission Information Collection Activities (FERC-725L); Comment Request

AGENCY: Federal Energy Regulatory Commission, DOE.

ACTION: Comment request.

SUMMARY: In compliance with the requirements of the Paperwork Reduction Act of 1995, the Federal Energy Regulatory Commission (Commission or FERC) is submitting the FERC-725L (Mandatory Reliability Standards for the Bulk-Power System: MOD Reliability Standards) to the Office of Management and Budget (OMB) for review of the information collection requirements. Any interested person may file comments directly with OMB and should address a copy of those comments to the Commission as explained below. The Commission previously issued a Notice in the Federal Register requesting public comments. The Commission received no comments on the FERC-725L and is making this notation in its submittal to OMB.

DATES: Comments on the collection of information are due by May 18, 2018.

ADDRESSES: Comments filed with OMB, identified by the OMB Control No. 1902-0261, should be sent via email to the Office of Information and Regulatory Affairs: oira_submission@omb.gov. Attention: Federal Energy Regulatory Commission Desk Officer. The Desk Officer may also be reached via telephone at 202-395-8528.

A copy of the comments should also be sent to the Commission, in Docket No. IC18-7-000, by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-725L, Mandatory Reliability Standards for the Bulk-Power System: MOD Reliability Standards.

OMB Control No.: 1902-0261.

Type of Request: Three-year extension of the FERC-725L information collection requirements with no changes to the reporting requirements.

Abstract: MOD Reliability Standards ensure that generators remain in operation during specified voltage and frequency excursions, properly coordinate protective relays and generator voltage regulator controls, and ensure that generator models accurately reflect the generator's capabilities and equipment performance.

On 5/30/2013, NERC filed a petition explaining that the reliability of the Bulk-Power System benefits from “good quality simulation models of power system equipment,² ” and that “model validation ensures the proper performance of the control systems and validates the computer models used for stability analysis.” NERC further stated that the Reliability Standards will enhance reliability because the tests performed to obtain model data may reveal latent defects that could cause “inappropriate unit response during system disturbances,² ” Subsequently, on 3/20/2014,¹ the Commission approved Reliability Standards MOD-025-2, MOD-026-1, and MOD-027-1. These Standards were intended to address generator verifications needed to support Bulk-Power System reliability that would also ensure that accurate data is verified and made available for planning simulations.²

¹ Final Rule in Docket No. RM13-16-000.

² NERC Petition for Approval of Five Proposed Reliability Standards MOD-025-2, MOD-026-1, MOD-027-1, PRC-019-1, and PRC-024-1 submitted to FERC on 5/30/2013.

On 5/1/2014,³ the Commission approved Reliability Standards MOD-032-1 and MOD-033-2. These Standards were to address “system-level modeling data and validation requirements necessary for developing planning models and the Interconnection-wide cases that are integral to analyzing the reliability of the Bulk-Power System.”

³ Order in Docket No. RD14-5-000.

MOD-025-2, MOD-026-1, MOD-027-1, MOD-032-1 and MOD-033-2 are all currently approved within the FERC-725L information collection. The reporting requirements associated with each standard will not change as a result of this extension request.

Type of Respondents: NERC-registered entities including generator owners, transmission planners, planning authorities, balancing authorities, resource planners, transmission service providers, reliability coordinators, and transmission operators.⁴

⁴ In subsequent portions of this notice, the following acronyms will be used: PA = Planning Authority, GO = Generator Owner, TP = Transmission Planner, BA = Balancing Authority, RP = Resource Planner, TSP = Transmission Service Provider, RC = Reliability Coordinator, TOP = Transmission Operator.

Estimate of Annual Burden: ⁵ The Commission estimates the annual public reporting burden ⁶ and cost for the information collection as:

⁵ “Burden” is defined as the total time, effort, or financial resources expended by persons to generate, maintain, retain, or disclose or provide information to or for a Federal agency. For further explanation of what is included in the information collection burden, reference 5 Code of Federal Regulations 1320.3.

⁶ Each of the five MOD standards in the FERC-725L information collection previously contained “one-time” components to their respondent burden. These one-time burden categories consisted primarily of activities related to establishing industry practices and developing data validation procedures tailored toward these reliability standards and their reporting requirements. None of the one-time burdens apply any longer, so they are being removed from the FERC-725L information collection.

MOD-025-2
[Verification and data reporting of generator real and reactive power capability and synchronous condenser reactive power capability]
| Number of respondents | Annual number of responses per respondent | Total number of responses | Average burden and cost per response | Total annual burden hours and total annual cost | Cost per respondent ($)
| (1) | (2) | (1) * (2) = (3) | (4) | (3) * (4) = (5) | (5) ÷ (1)
Attachment 2 | 933 (GO) | 1 | 933 | 6 hrs.; $448.92 ⁷ | 5,598 hrs.; $418,842 | $448.92
Evidence Retention | 933 (GO) | 1 | 933 | 1 hr.; $32.74 ⁸ | 933 hrs.; $30,546 | 32.74
Total |  |  |  |  | 6,531 hrs.; $449,388 |

MOD-026-1
[Verification of models and data for generator excitation control system or plant volt/variance control functions]
| Number of respondents | Annual number of responses per respondent | Total number of responses | Average burden and cost per response | Total annual burden hours and total annual cost | Cost per respondent ($)
| (1) | (2) | (1) * (2) = (3) | (4) | (3) * (4) = (5) | (5) ÷ (1)
Instructions for obtaining excitation control system or plant voltage/variance control function model | 185 (TP) | 1 | 185 | 8 hrs.; $598.56 ⁷ | 1,480 hrs.; $110,734 | $598.56
Documentation on generator verification | 466 (GO) | 1 | 466 | 8 hrs.; $598.56 ⁷ | 3,728 hrs.; $278,929 | 598.56
Evidence Retention | 651 (GO and TOP) | 1 | 651 | 1 hr.; $32.74 ⁸ | 651 hrs.; $21,314 | 32.74
Total |  |  |  |  | 5,859 hrs.; $410,977 |

MOD-027-1
[Verification of models and data for turbine/governor and load control or active power/frequency control functions]
| Number of respondents | Annual number of responses per respondent | Total number of responses | Average burden and cost per response | Total annual burden hours and total annual cost | Cost per respondent ($)
| (1) | (2) | (1) * (2) = (3) | (4) | (3) * (4) = (5) | (5) ÷ (1)
Instructions for obtaining excitation control system or plant voltage/variance control function model | 185 (TP) | 1 | 185 | 8 hrs.; $598.56 ⁷ | 1,480 hrs.; $110,734 | $598.56
Documentation on generator verification | 466 (GO) | 1 | 466 | 8 hrs.; $598.56 ⁷ | 3,728 hrs.; $278,929 | 598.56
Evidence Retention | 651 (GO and TP) | 1 | 651 | 1 hr.; $32.74 ⁸ | 651 hrs.; $21,314 | 32.74
Total |  |  |  |  | 5,859 hrs.; $410,977 |

MOD-032-1
[Verification of models and data for turbine/governor and load control or active power/frequency control functions]
| Number of respondents | Annual number of responses per respondent | Total number of responses | Average burden and cost per response | Total annual burden hours and total annual cost | Cost per respondent ($)
| (1) | (2) | (1) * (2) = (3) | (4) | (3) * (4) = (5) | (5) ÷ (1)
Data Submittal | 1,197 (BA, GO, PA, RP, TO, TP, and TSP) | 1 | 1,197 | 8 hrs.; $544.96 ⁹ | 9,576 hrs.; $652,317 | $544.96
Evidence Retention | 1,197 (BA, GO, PA, RP, TO, TP, and TSP) | 1 | 1,197 | 1 hr.; $32.74 ⁸ | 1,197 hrs.; $39,190 | 32.74
Total |  |  |  |  | 10,773 hrs.; $691,507 |

MOD-033-1
[Steady-state and dynamics system model validation]
| Number of respondents | Annual number of responses per respondent | Total number of responses | Average burden and cost per response | Total annual burden hours and total annual cost | Cost per respondent ($)
| (1) | (2) | (1) * (2) = (3) | (4) | (3) * (4) = (5) | (5) ÷ (1)
Data Submittal | 188 (RC and TOP) | 1 | 188 | 8 hrs.; $544.96 ⁹ | 1,504 hrs.; $102,452 | $544.96
Evidence Retention | 194 (PA, RC, and TOP) | 1 | 194 | 1 hr.; $32.74 ⁸ | 194 hrs.; $6,352 | 32.74
Total |  |  |  |  | 1,698 hrs.; $108,804 |

The total annual estimated burden and cost for the FERC-725L information collection is 30,720 hours and $2,071,653 respectively.

⁷ This wage figure uses the average hourly wage (plus benefits) for electrical engineers (Occupation Code: 17-2071, $68.12/hour) and managers (Occupation Code: 11-0000, $81.52/hour) obtained from the Bureau of Labor Statistics (BLS). The average used the following calculation: [$68.12/hour + $81.52/hour] ÷ 2 = $74.82/hour.

⁸ The estimate uses the hourly average wage (plus benefits) for file clerks obtained from the Bureau of Labor Statistics: $32.74/hour (BLS Occupation Code: 43-4071).

⁹ This uses the hourly average wage (plus benefits) for electrical engineers obtained from the Bureau of Labor Statistics: $68.12/hour (BLS Occupation Code: 17-2071).

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 11, 2018.
Kimberly D. Bose,
Secretary.

[FR Doc. 2018-08057 Filed 4-17-18; 8:45 am]

BILLING CODE 6717-01-P